DEPARTMENT OF ENERGY

Federal Energy Regulatory Commission

Combined Notice of Filings

Take notice that the Commission has received the following Natural Gas Pipeline Rate and Refund Report filings:

Docket Number: PR20-62-001.

Applicants: Black Hills Wyoming Gas, LLC.

Description: Tariff filing per 284.123(b),(e)/: Black Hills Wyoming Gas, LLC Amended SOC Filing to be effective 5/12/2020.

Filed Date: 5/28/2020.

Accession Number: 202005285052.

Comments/Protests Due: 5 p.m. ET 6/18/2020.

Docket Numbers: RP20-780-001.

Applicants: Pine Needle LNG Company, LLC.

Description: Compliance filing Implementation of Approved Stipulation and Agreement in Docket No. RP20-780 to be effective 6/1/2020.

Filed Date: 5/28/20.

Accession Number: 20200528-5207.

Comments Due: 5 p.m. ET 6/9/20.

Docket Numbers: RP20-886-000.

Applicants: TransColorado Gas Transmission Company LLC.

Description: § 4(d) Rate Filing: FLU Percentage Recomputation to be effective 7/1/2020.

Filed Date: 5/28/20.

Accession Number: 20200528-5055.

Comments Due: 5 p.m. ET 6/9/20.

Docket Numbers: RP20-887-000.

Applicants: Algonquin Gas Transmission, LLC.

Description: § 4(d) Rate Filing: AGT May 2020 Customer Name Change—Plymouth Rock to ENGIE Power & Gas LLC to be effective 6/27/2020.

Filed Date: 5/28/20.

Accession Number: 20200528-5061.

Comments Due: 5 p.m. ET 6/9/20.

Docket Numbers: RP20-888-000.

Applicants: Colorado Interstate Gas Company, L.L.C.

Description: § 4(d) Rate Filing: Quarterly LUF Trueup Filing to be effective 7/1/2020.

Filed Date: 5/28/20.

Accession Number: 20200528-5065.

Comments Due: 5 p.m. ET 6/9/20.

Docket Numbers: RP20-889-000.

Applicants: El Paso Natural Gas Company, L.L.C.

Description: § 4(d) Rate Filing: Negotiated Rate Update Filing (Conoco June 20) to be effective 6/1/2020.

Filed Date: 5/28/20.

Accession Number: 20200528-5073.

Comments Due: 5 p.m. ET 6/9/20.

Docket Numbers: RP20-890-000.

Applicants: Texas Eastern Transmission, LP.

Description: § 4(d) Rate Filing: TETLP NRA Name Change Cleanup—Plymouth Rock to ENGIE Power & Gas LLC to be effective 6/27/2020.

Filed Date: 5/28/20.

Accession Number: 20200528-5085.

Comments Due: 5 p.m. ET 6/9/20.

Docket Numbers: RP20-891-000.

Applicants: Kinder Morgan Louisiana Pipeline LLC.

Description: § 4(d) Rate Filing: Periodic Rate Adjustment to be effective 7/1/2020.

Filed Date: 5/28/20.

Accession Number: 20200528-5086.

Comments Due: 5 p.m. ET 6/9/20.

Docket Numbers: RP20-892-000.

Applicants: Texas Eastern Transmission, LP.

Description: § 4(d) Rate Filing: Negotiated Rate—Chevron 911109 releases eff 6-1-2020 to be effective 6/1/2020.

Filed Date: 5/28/20.

Accession Number: 20200528-5088.

Comments Due: 5 p.m. ET 6/9/20.

Docket Numbers: RP20-893-000.

Applicants: El Paso Natural Gas Company, L.L.C.

Description: § 4(d) Rate Filing: Non-Conforming Negotiated Rate Update (SoCal July 20) to be effective 7/1/2020.

Filed Date: 5/28/20.

Accession Number: 20200528-5089.

Comments Due: 5 p.m. ET 6/9/20.

Docket Numbers: RP20-894-000.

Applicants: Florida Gas Transmission Company, LLC.

Description: § 4(d) Rate Filing: Negotiated Rates Filing on 5-28-20 to be effective 6/1/2020.

Filed Date: 5/28/20.

Accession Number: 20200528-5130.

Comments Due: 5 p.m. ET 6/9/20.

Docket Numbers: RP20-895-000.

Applicants: Texas Eastern Transmission, LP.

Description: § 4(d) Rate Filing: Negotiated Rates—Duke Energy Indiana 712322 eff 6-1-2020 to be effective 6/1/2020.

Filed Date: 5/28/20.

Accession Number: 20200528-5134.

Comments Due: 5 p.m. ET 6/9/20.

Docket Numbers: RP20-897-000.

Applicants: NEXUS Gas Transmission, LLC.

Description: § 4(d) Rate Filing: Negotiated Rates—Columbia Gas 860005 6-1-2020 Releases to be effective 6/1/2020.

Filed Date: 5/28/20.

Accession Number: 20200528-5245.

Comments Due: 5 p.m. ET 6/9/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 3, 2020.
Nathaniel J. Davis, Sr.,
Deputy Secretary.

[FR Doc. 2020-12456 Filed 6-8-20; 8:45 am]

BILLING CODE 6717-01-P